DEPARTMENT OF HOMELAND SECURITY

Federal Emergency Management Agency

[FEMA-1558-DR]

West Virginia; Amendment No. 3 to Notice of a Major Disaster Declaration

AGENCY: Federal Emergency Management Agency, Emergency Preparedness and Response Directorate, Department of Homeland Security.

ACTION: Notice.

SUMMARY: This notice amends the notice of a major disaster declaration for the State of West Virginia (FEMA-1558-DR), dated September 20, 2004, and related determinations.

EFFECTIVE DATE: September 29, 2004.

FOR FURTHER INFORMATION CONTACT: Magda Ruiz, Recovery Division, Federal Emergency Management Agency, Washington, DC 20472, (202) 646-2705.

SUPPLEMENTARY INFORMATION: The notice of a major disaster declaration for the State of West Virginia is hereby amended to include the following areas among those areas determined to have been adversely affected by the catastrophe declared a major disaster by the President in his declaration of September 20, 2004:

Mingo County for Individual Assistance.

Wayne County for Individual Assistance and for debris removal and emergency protective measures (Categories A and B) under the Public Assistance program.

Brooke, Hancock, Jackson, Lincoln, Marshall, Mason, Ohio, Pleasants, Tyler, and Wetzel Counties for Categories C-G under the Public Assistance program (already designated for Categories A and B under the Public Assistance program and Individual Assistance.)

(The following Catalog of Federal Domestic Assistance Numbers CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050 Individuals and Households Program—Other Needs, 97.036, Public Assistance Grants; 97.039, Hazard Mitigation Grant Program)

Michael D. Brown,
Under Secretary, Emergency Preparedness and Response, Department of Homeland Security.

[FR Doc. 04-22676 Filed 10-7-04; 8:45 am]

BILLING CODE 9110-10-P